DEPARTMENT OF LABOR

Employee Benefits Security Administration

Public Disclosure Room; Notice of Temporary Relocation

Renovation of the Employee Benefits Security Administration's Public Disclosure Room (PDR) will necessitate a temporary relocation and suspension of operations for a total of up to six (6) business days. The renovation will begin on or after May 11 and is expected to last four to six weeks. The PDR will be closed up to three (3) business days prior to moving to the temporary location and up to three (3) business days after the renovation. You can check for updates on the schedule on the EBSA Web site, at http://www.dol.gov/ebsa/. The temporary address for the PDR will be N1519, 200 Constitution Avenue NW., Washington, DC 20210. While the PDR is at this temporary location, the telephone number will remain (202) 693-8673, and the hours of operation will temporarily change to 8:00 am-4:00 pm Monday through Friday. Following the renovation, the PDR will re-open in Suite N-1515 at 200 Constitution Avenue NW., Washington, DC 20210. The telephone number will remain (202) 693-8673 and the hours of operation will return to 8:15 am to 4:45 pm.

Signed at Washington, DC this 28th day of April, 2015.
Judy Mares,
Deputy Assistant Secretary, Employee Benefits Security Administration.

[FR Doc. 2015-10395 Filed 5-1-15; 8:45 am]

BILLING CODE 4510-29-P